ENVIRONMENTAL PROTECTION AGENCY

[ER-FRL-9057-5]

Environmental Impact Statements; Notice of Availability

Responsible Agency: Office of Federal Activities, General Information 202-564-5632 or https://www.epa.gov/nepa.

Weekly receipt of Environmental Impact Statements (EIS)

Filed July 12, 2021 10 a.m. EST Through July 19, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210099, Draft Supplement, CHSRA, CA, California High-Speed Rail San Francisco to San Jose Project Section Revised Draft Environmental Impact Report/Supplemental Draft Environmental Impact Statement, Comment Period Ends: 09/08/2021, Contact: Scott Rothenberg 916-403-6936.

EIS No. 20210100, Draft, FERC, LA, Evangeline Pass Expansion Project, Comment Period Ends: 09/07/2021, Contact: Office of External Affairs 866-208-3372.

Amended Notice

EIS No. 20210051, Draft, USN, CA, Navy Old Town Campus Revitalization, Comment Period Ends: 08/12/2021, Contact: Ron Bochenek 619-705-5560.

Revision to FR Notice Published 05/14/2021; Extending the Comment Period from 07/13/2021 to 08/12/2021.

EIS No. 20210078, Draft, UDOT, UT, Little Cottonwood Canyon Environmental Impact Statement Wasatch Boulevard to Alta, Comment Period Ends: 09/03/2021, Contact: Josh Van Jura 801-231-8452.

Revision to FR Notice Published 06/25/2021; Extending the Comment Period from 08/09/2021 to 09/03/2021.

Dated: July 19, 2021.
Cindy S. Barger,
Director, NEPA Compliance Division, Office of Federal Activities.

[FR Doc. 2021-15678 Filed 7-22-21; 8:45 am]

BILLING CODE 6560-50-P